FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

Date and Time: The special meeting of the Board was held at the offices of the Farm Credit Administration in McLean, Virginia, on September 17, 2002, from 11:15 a.m. until such time as the Board concluded its business.

FOR FURTHER INFORMATION CONTACT: Jeanette C. Brinkley, Acting Secretary to the Farm Credit Administration Board, (703) 883-4009, TTY (703) 883-4056.

ADDRESS: Farm Credit Administration, 1501 Farm Credit Drive, McLean, Virginia 22102-5090.

SUPPLEMENTARY INFORMATION: This meeting of the Board was closed to the public. The matter considered at the meeting was:

* Session closed—exempt pursuant to 5 U.S.C. 552b(c)(10).

* Closed Session

Unfinished Business and General Orders

• Other

—Continue Discussion Regarding Regulatory Enforcement Issue

Dated: September 17, 2002.
Jeanette C. Brinkley,
Acting Secretary, Farm Credit Administration Board.

[FR Doc. 02-24029 Filed 9-18-02; 10:09 pm]

BILLING CODE 6705-01-P